DEPARTMENT OF ENERGY

Federal Energy Regulatory Commission

Combined Notice of Filings #1

Take notice that the Commission received the following electric rate filings:

Docket Numbers: ER10-1276-013; ER10-1292-012; ER10-1287-012; ER10-1303-012; ER10-1319-014; ER10-1353-014; ER18-1183-005; ER18-1184-005.

Applicants: Consumers Energy Company, CMS Energy Resource Management Company, Grayling Generation Station Limited Partnership, Genesee Power Station Limited Partnership, CMS Generation Michigan Power, LLC, Dearborn Industrial Generation, L.L.C., Delta Solar Power I, LLC, Delta Solar Power II, LLC.

Description: Triennial Market Power Analysis for Central Region of Consumer Energy Company, et al.

Filed Date: 12/29/20.

Accession Number: 20201229-5384.

Comments Due: 5 p.m. ET 3/1/21.

Docket Numbers: ER10-2211-007.

Applicants: Vandolah Power Company, L.L.C.

Description: Triennial Market Power Analysis for Southeast Region of Vandolah Power Company, L.L.C.

Filed Date: 12/30/20.

Accession Number: 20201230-5178.

Comments Due: 5 p.m. ET 3/1/21.

Docket Numbers: ER10-2570-036.

Applicants: Shady Hills Power Company, L.L.C.

Description: Triennial Market Power Analysis for Southeast Region of Shady Hills Power Company, L.L.C.

Filed Date: 12/29/20.

Accession Number: 20201229-5366.

Comments Due: 5 p.m. ET 3/1/21.

Docket Numbers: ER11-2508-026; ER19-1415-002; ER19-1416-001; ER19-1414-002.

Applicants: GenOn Energy Management, LLC, GenOn California South, LP, GenOn Florida, LP, GenOn REMA, LLC.

Description: Triennial Market Power Analysis for Southeast Region of GenOn Southeast MBR Sellers.

Filed Date: 12/29/20.

Accession Number: 20201229-5381.

Comments Due: 5 p.m. ET 3/1/21.

Docket Numbers: ER14-1818-021.

Applicants: Boston Energy Trading and Marketing LLC.

Description: Triennial Market Power Analysis for Southeast Region of Boston Energy Trading and Marketing LLC.

Filed Date: 12/29/20.

Accession Number: 20201229-5293.

Comments Due: 5 p.m. ET 3/1/21.

Docket Numbers: ER17-1742-003; ER20-2510-001; ER13-2490-007; ER19-2671-002; ER19-2672-002; ER20-2512-001; ER20-2515-001; ER19-2595-002; ER19-2670-002; ER19-53-001; ER20-2663-001; ER17-311-003; ER20-1073-001.

Applicants: Hattiesburg Farm, LLC, Odom Solar LLC, Simon Solar Farm LLC, SR Arlington II, LLC, SR Arlington II MT, LLC, SR Baxley, LLC, SR Georgia Portfolio I MT, LLC, SR Hazlehurst III, LLC, SR Meridian III, LLC, SR Millington, LLC, SR Snipesville, LLC, SR South Loving LLC, SR Terrell, LLC.

Description: Triennial Market Power Analysis for Southeast Region and Notice of Non-Material Change in Status of Hattiesburg Farm, LLC, et al.

Filed Date: 12/29/20.

Accession Number: 20201229-5306.

Comments Due: 5 p.m. ET 3/1/21.

Docket Numbers: ER18-920-006.

Applicants: Marco DM Holdings, L.L.C.

Description: Triennial Market Power Analysis for Southeast Region of Marco DM Holdings, L.L.C.

Filed Date: 12/30/20.

Accession Number: 20201230-5179.

Comments Due: 5 p.m. ET 3/1/21.

Docket Numbers: ER19-381-002.

Applicants: Power Holding LLC.

Description: Triennial Market Power Analysis for Southeast Region of Power Holding LLC.

Filed Date: 12/29/20.

Accession Number: 20201229-5372.

Comments Due: 5 p.m. ET 3/1/21.

Docket Numbers: ER19-2373-002; ER10-1841-019; ER10-1845-019; ER10-1852-044; ER10-1905-019; ER10-1907-018; ER10-1918-019; ER10-1925-019; ER10-1927-019; ER10-1950-019; ER10-1951-026; ER10-1970-018; ER10-1972-018; ER10-2005-019; ER10-2006-019; ER10-2078-019; ER11-26-019; ER11-4462-047; ER12-1660-018; ER13-2458-013; ER13-2461-013; ER16-1872-009; ER16-2506-010; ER17-2270-010; ER17-838-022; ER18-1771-008; ER18-2224-008; ER18-2246-007; ER19-1003-006; ER19-1393-006; ER19-1394-006; ER19-2373-002; ER19-2382-002; ER19-2398-003; ER19-2437-002; ER19-2461-002; ER19-987-006; ER20-122-002; ER20-975-001.

Applicants: NextEra Resources Entities.

Description: Supplement to the November 5, 2020 Notification of Change in Status of NextEra Resources Entities.

Filed Date: 12/29/20.

Accession Number: 20201229-5374.

Comments Due: 5 p.m. ET 1/19/21.

Docket Numbers: ER20-280-002.

Applicants: Skookumchuck Wind Energy Project, LLC.

Description: Notice of Change in Status of Skookumchuck Wind Energy Project, LLC.

Filed Date: 12/28/20.

Accession Number: 20201228-5577.

Comments Due: 5 p.m. ET 1/19/21.

Docket Numbers: ER20-547-003; ER12-1911-004; ER12-1912-004; ER12-1913-004; ER12-1915-004; ER12-1916-004; ER12-1917-004; ER14-41-004; ER14-42-004; ER16-498-003; ER16-499-003; ER16-500-003; ER19-2463-002.

Applicants: Goldman Sachs Renewable Power Marketing, RE McKenzie 1 LLC, RE McKenzie 2 LLC, RE McKenzie 3 LLC, RE McKenzie 4 LLC, RE McKenzie 5 LLC, RE McKenzie 6 LLC, RE Rosamond One LLC, RE Rosamond Two LLC, RE Mustang LLC, RE Mustang 3 LLC, RE Mustang 4 LLC, Utah Red Hills Renewable Park, LLC.

Description: Supplement to the May 28, 2020 Notice of Non-Material Change in Status of Goldman Sachs Renewable Power Marketing LLC, et al.

Filed Date: 12/29/20.

Accession Number: 20201229-5394.

Comments Due: 5 p.m. ET 1/19/21.

Docket Numbers: ER21-258-001.

Applicants: Todd Solar LLC.

Description: Tariff Amendment: Supplement to Market-Based Rate Application and Response to Deficiency Letter to be effective 1/22/2021.

Filed Date: 12/30/20.

Accession Number: 20201230-5162.

Comments Due: 5 p.m. ET 1/21/21.

Docket Numbers: ER21-292-002.

Applicants: Oakland Power Company LLC.

Description: Tariff Amendment: Errata to Annual Reliability Must Run Agreement and Schedule F Info Filings to be effective 12/31/9998.

Filed Date: 12/29/20.

Accession Number: 20201229-5295.

Comments Due: 5 p.m. ET 1/19/21.

Docket Numbers: ER21-511-001.

Applicants: Safe Harbor Water Power Corporation.

Description: Tariff Amendment: Amendment to Revised Reactive Service Tariff Filing to be effective 1/1/2021.

Filed Date: 12/30/20.

Accession Number: 20201230-5156.

Comments Due: 5 p.m. ET 1/21/21.

Docket Numbers: ER21-627-001.

Applicants: Dry Lake Solar Holdings LLC.

Description: Tariff Amendment: Supplement to December 11, 2020 Market-Based Rate Application to be effective 3/1/2021.

Filed Date: 12/30/20.

Accession Number: 20201230-5144.

Comments Due: 5 p.m. ET 1/21/21.

Docket Numbers: ER21-628-001.

Applicants: Harry Allen Solar Energy LLC.

Description: Tariff Amendment: Supplement to December 11, 2020 Market-Based Rate Application to be effective 3/1/2021.

Filed Date: 12/30/20.

Accession Number: 20201230-5142.

Comments Due: 5 p.m. ET 1/21/21.

Docket Numbers: ER21-757-000.

Applicants: Georgia-Pacific Brewton LLC, Brunswick Cellulose LLC, Georgia-Pacific Cedar Springs LLC, Georgia-Pacific Consumer Operations LLC, Palatka, Georgia-Pacific Consumer Operations LLC, Naheola, Georgia-Pacific Consumer Operations LLC, Savannah.

Description: Request for Waiver to File Updated Market Power Analysis for Southeast Region of Brunswick Cellulose LLC, et al.

Filed Date: 12/23/20.

Accession Number: 20201223-5425.

Comments Due: 5 p.m. ET 1/13/21.

Docket Numbers: ER21-760-000.

Applicants: MATL LLP.

Description: § 205(d) Rate Filing: Amendments to Change Contacts to be effective 12/31/2020.

Filed Date: 12/30/20.

Accession Number: 20201230-5000.

Comments Due: 5 p.m. ET 1/21/21.

Docket Numbers: ER21-761-000.

Applicants: New England Power Pool Participants Committee.

Description: § 205(d) Rate Filing: January 2021 Membership Filing to be effective 12/1/2020.

Filed Date: 12/30/20.

Accession Number: 20201230-5002.

Comments Due: 5 p.m. ET 1/21/21.

Docket Numbers: ER21-762-000.

Applicants: Bishop Hill Energy II LLC.

Description: Baseline eTariff Filing: Reactive Power Compensation Filing to be effective 2/28/2021.

Filed Date: 12/30/20.

Accession Number: 20201230-5010.

Comments Due: 5 p.m. ET 1/21/21.

Docket Numbers: ER21-763-000.

Applicants: NorthWestern Corporation.

Description: § 205(d) Rate Filing: RS 37-SD 1st Rev—Emergency Service Agreement with East River Electric Co-op to be effective 1/1/2021.

Filed Date: 12/30/20.

Accession Number: 20201230-5013.

Comments Due: 5 p.m. ET 1/21/21.

Docket Numbers: ER21-764-000.

Applicants: Southwest Power Pool, Inc.

Description: § 205(d) Rate Filing: 607R39 Evergy Kansas Central, Inc. NITSA NOA to be effective 12/1/2020.

Filed Date: 12/30/20.

Accession Number: 20201230-5032.

Comments Due: 5 p.m. ET 1/21/21.

Docket Numbers: ER21-765-000.

Applicants: Southwest Power Pool, Inc.

Description: § 205(d) Rate Filing: 1313R14 Oklahoma Gas and Electric Company NITSA and NOA to be effective 12/1/2020.

Filed Date: 12/30/20.

Accession Number: 20201230-5049.

Comments Due: 5 p.m. ET 1/21/21.

Docket Numbers: ER21-766-000.

Applicants: Duke Energy Indiana, LLC.

Description: § 205(d) Rate Filing: DEI-Hoosier RS No. 270—Amended Facilities Agreement to be effective 3/1/2021.

Filed Date: 12/30/20.

Accession Number: 20201230-5053.

Comments Due: 5 p.m. ET 1/21/21.

Docket Numbers: ER21-767-000.

Applicants: Duke Energy Carolinas, LLC.

Description: § 205(d) Rate Filing: Revisions to Rate Schedule No. 336 to be effective 1/1/2021.

Filed Date: 12/30/20.

Accession Number: 20201230-5061.

Comments Due: 5 p.m. ET 1/21/21.

Docket Numbers: ER21-768-000.

Applicants: Basin Electric Power Cooperative.

Description: § 205(d) Rate Filing: Submission of Revised Wholesale Power Contract FERC Rate Schedule No. 8 to be effective 1/1/2021.

Filed Date: 12/30/20.

Accession Number: 20201230-5069.

Comments Due: 5 p.m. ET 1/21/21.

Docket Numbers: ER21-769-000.

Applicants: Central Maine Power Company.

Description: § 205(d) Rate Filing: Large Generator Interconnection Agreement to be effective 12/21/2020.

Filed Date: 12/30/20.

Accession Number: 20201230-5073.

Comments Due: 5 p.m. ET 1/21/21.

Docket Numbers: ER21-770-000.

Applicants: Sierra Pacific Power Company.

Description: § 205(d) Rate Filing: Service Agreement No. 20-00049 SPPC AMOR IX_13MW to Gonder to be effective 3/1/2021.

Filed Date: 12/30/20.

Accession Number: 20201230-5102.

Comments Due: 5 p.m. ET 1/21/21.

Docket Numbers: ER21-771-000.

Applicants: Sierra Pacific Power Company.

Description: § 205(d) Rate Filing: Service Agreement No. 20-00050 SPPC AMOR IX_7MW to Gonder to be effective 3/1/2021.

Filed Date: 12/30/20.

Accession Number: 20201230-5103.

Comments Due: 5 p.m. ET 1/21/21.

Docket Numbers: ER21-772-000.

Applicants: Resi Station, LLC.

Description: Baseline eTariff Filing: Baseline new to be effective 12/31/2020.

Filed Date: 12/30/20.

Accession Number: 20201230-5159.

Comments Due: 5 p.m. ET 1/21/21.

Docket Numbers: ER21-773-000.

Applicants: Liberty Utilities (Granite State Electric) Corp.

Description: § 205(d) Rate Filing: Borderline Sales Rate Sheet Update December 2020 to be effective 11/1/2020.

Filed Date: 12/30/20.

Accession Number: 20201230-5161.

Comments Due: 5 p.m. ET 1/21/21.

Docket Numbers: ER21-774-000.

Applicants: Dynegy Marketing and Trade, LLC.

Description: § 205(d) Rate Filing: Normal filing ISO-NE Schedule 17 Cost Recovery to be effective 3/1/2021.

Filed Date: 12/30/20.

Accession Number: 20201230-5190.

Comments Due: 5 p.m. ET 1/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2020.
Nathaniel J. Davis, Sr.,
Deputy Secretary.

[FR Doc. 2020-29247 Filed 1-5-21; 8:45 am]

BILLING CODE 6717-01-P